DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 21, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Sheep 2024 Study.

OMB Control Number: 0579-New.

Summary of Collection: The Department of Agriculture is responsible for protecting the health of our Nation's livestock and poultry populations by preventing the introduction and interstate spread of contagious, infectious, or communicable diseases of livestock and poultry and for eradicating such diseases from the United States when feasible. In connection with this mission, the Animal and Plant Health Inspection Service (APHIS) operates the National Health Monitoring System (NAHMS), which collects, on a national basis, statistically valid and scientifically sound data on the prevalence and economic importance of livestock and poultry diseases. NAHMS will conduct a national data collection for sheep through a national study, Sheep 2024. Collection and dissemination of animal and poultry health information is mandated by 7 U.S.C. 8301, The Animal Health Protection Act of 2002.

Need and Use of the Information: APHIS will collect information using several questionnaires and consent forms. It will use the data collected to: (1) describe management and biosecurity practices associated with, and producer-reported occurrence of, common economically important diseases in sheep; (2) describe antimicrobial stewardship on sheep operations and estimate the prevalence of enteric microbes and antimicrobial resistance patterns; (3) describe management practices producers use to control internal parasites and reduce anthelmintic resistance; (4) describe changes in animal health, nutrition, and management practices in the U.S. sheep industry from 1996-2024; and (5) provide a serologic and DNA bank for future research.

Without the aforementioned data, the U.S.' ability to detect trends sheep in management, production, and health status that increase or decrease farm economy, either directly or indirectly, would be reduced or nonexistent.

Description of Respondents: Business or other for-profit, State agricultural officials.

Number of Respondents: 4,970.

Frequency of Responses: Reporting: Other (one time).

Total Burden Hours: 8,000.

Ruth Brown,
Departmental Information Collection Clearance Officer.

[FR Doc. 2023-15486 Filed 7-20-23; 8:45 am]

BILLING CODE 3410-34-P